DEPARTMENT OF HOMELAND SECURITY

[Docket No. DHS-2023-0015]

Homeland Security Advisory Council

AGENCY: The Department of Homeland Security (DHS), the Office of Partnership and Engagement (OPE).

ACTION: Notice of new taskings for the Homeland Security Advisory Council (HSAC).

SUMMARY: On March 27, 2023 the Secretary of DHS, Alejandro N. Mayorkas, issued a memorandum tasking the Homeland Security Advisory Council (HSAC) to establish six subcommittees further outlined below. This notice is not a solicitation for membership.

FOR FURTHER INFORMATION CONTACT: Rebecca Sternhell, Principal Deputy Assistant Secretary & HSAC Designated Federal Official, Homeland Security Advisory Council, Office of Partnership and Engagement, U.S. Department of Homeland Security at HSAC@hq.dhs.gov or 202-891-2876.

SUPPLEMENTARY INFORMATION: The Homeland Security Advisory Council provides organizationally independent, strategic, timely, specific, and actionable advice and recommendations for the consideration of the Secretary of the Department of Homeland Security on matters related to homeland security. The Homeland Security Advisory Council is comprised of leaders in local law enforcement, first responders, State, local and tribal government, national policy, the private sector, and academia.

The Secretary has requested that the HSAC form new subcommittees to study and provide recommendations in four critical areas for the Department:

1. Development of the Department's Artificial Intelligence (AI) Strategy. This effort will be divided into two subcommittees. One will be focused on how the Department can best use AI to advance critical missions, and the other will be focused on how the Department should be building defenses to the nefarious use of AI in the control of an adversary.

2. Potential revisions to the homeland security grant programs, including the risk methodology that is applied, to ensure the Department is operating the programs optimally in light of the changed threat landscape over the past 20 years.

3. A wholesale review of the immigration Alternatives to Detention (ATD) programs, and recommendations to modernize the programs and make them more effective.

4. Potential revisions to the DHS workplace and workforce skill set. This effort will be divided into two subcommittees. One will review the Department's current diverse work environments—from secure spaces and ports of entry to remote offices—and make recommendations for the workplace of the future. The second subcommittee will assess the alignment of workforce skills with work responsibilities in discrete, critical mission areas.

Schedule: The subcommittees' findings and recommendations will be submitted to the HSAC for its deliberation and vote during a public meeting mid-late Summer 2023.

Dated: March 29, 2023.
Rebecca Kagan Sternhell,
Principal Deputy Assistant Secretary & HSAC Designated Federal Official, Homeland Security Advisory Council, Department of Homeland Security.

[FR Doc. 2023-06959 Filed 4-3-23; 8:45 am]

BILLING CODE 9112-FN-P